DEPARTMENT OF COMMERCE

National Oceanic and Atmospheric Administration

National Sea Grant Review Panel

AGENCY: National Sea Grant College Program, Office of Oceanic and Atmospheric Research, NOAA, DOC.

ACTION: Notice of public meeting.

SUMMARY: This notice sets forth the schedule and proposed agenda of a forthcoming meeting of the Sea Grant Review Panel. The meeting will have several purposes. Panel members will discuss and provide advice on the National Sea Grant College Program in the areas of program evaluation, education and extension, science and technology programs, and other matters as described below:

DATES: The announced meeting is scheduled during two days: Sunday, March 25 and Wednesday, March 28, 2001.

ADDRESSES: (To be held in conjunction with the national “Sea Grant Week” Meetings, March 25-28, 2001), Crowne Plaza Hotel, 130 Shipyard Drive, Hilton Head Island, South Carolina 29928, Telephone: (843) 842-2400.

FOR FURTHER INFORMATION CONTACT: Dr. Francis M. Schuler, Designated Federal Official, National Sea Grant College Program, National Oceanic and Atmospheric Administration, 1315 East-West Highway, Silver Spring, Maryland 20910, (301) 713-2445.

SUPPLEMENTARY INFORMATION: The Panel, which consists of a balanced representation from academia, industry, state, government and citizens groups, was established in 1976 by section 209 of the Sea Grant Improvement Act (Pub. L. 94-461, 33 U.S.C. 1128). The Panel advises the Secretary of Commerce and the Director of the National Sea Grant College Program with respect to operations under the Act, and such other matters as the Secretary refers to them for review and advice. The agenda for the meeting is as follows:

Sunday, March 25, 2001

9 a.m.-3:30 p.m.

Panel Committee Reports

Executive Committee

Review of the National Sea Grant Office, NOAA

Implementation Committee—Sea Grant Extension Report

Program Evaluation Committee

Allocation Committee

Technology Transfer Committee

Minority Serving Institutions

Report of the Director, National Sea Grant Office

Wednesday, March 28, 2001

8:30 a.m. to 10:30 a.m.

Committee Summary and Follow-up on Sea Grant Week Sessions:

Review of the National Sea Grant Office, NOAA

Implementation Committee—Sea Grant Extension Report

Program Evaluation Committee

Allocation Committee

This meeting will be open to the public.

Dated: March 7, 2001.
Louisa Koch,
Deputy Assistant Administrator, Office of Oceanic and Atmospheric Research.

[FR Doc. 01-6107 Filed 3-9-01; 8:45 am]

BILLING CODE 3510-KA-M